EXPORT-IMPORT BANK OF THE U.S.

[Public Notice 113]

Agency Information Collection Activities: Proposed Collection; Comment Request

AGENCY: Export-Import Bank of the U.S.

ACTION: Notice and request for comments.

SUMMARY: The Export-Import Bank, as a part of its continuing effort to reduce paperwork and respondent burden, invites the general public and other Federal Agencies to comment on the proposed information collection, as required by the Paperwork Reduction Act of 1995. Our customers will be able to submit this form on paper or electronically. The form has been updated in order to standardize the outline of this application to those used for medium-term insurance and guarantees and financial institution short-term single sale insurance. The application also more explicitly states the financial information that is required to be submitted with the application. This form mirrors the on-line version of the application that Ex-Im Bank is developing.

DATES: Written comments should be received on or before June 29, 2009 to be assured of consideration.

ADDRESSES: Direct all comments and requests for additional information to Walter Kosciow, Export-Import Bank of the U.S., 811 Vermont Avenue, NW., Washington, DC 20571, (202) 565-3649, (800) 565-3946, or walter.kosciow@exim.gov.

SUPPLEMENTARY INFORMATION:

Title and Form Number: Application for Exporter Short-term Single-Buyer Insurance, EIB 92-64.

OMB Number: 3048-0018.

Type of Review: Regular.

Need and Use: The information requested enables the applicant to provide Ex-Im Bank with the information necessary to obtain legislatively required assurance of repayment and fulfills other statutory requirements.

Affected Public: The form affects entities involved in the export of U.S. goods and services.

Estimated Annual Respondents: 191.

Estimated Time per Respondent: 1 hour.

Estimated Annual Burden: 191 hours.

Frequency of Reporting or Use: As needed each time an exporter seeks to obtain Ex-Im Bank short-term insurance for a single-buyer export sale.

Dated: April 24, 2009.
Solomon Bush,
Agency Clearance Officer.

[FR Doc. E9-9848 Filed 4-29-09; 8:45 am]

BILLING CODE 6690-01-P